DEPARTMENT OF TRANSPORTATION

Federal Aviation Administration

14 CFR Part 39

[Docket No. 2002-SW-11-AD; Amendment 39-12886; AD 2002-19-06]

RIN 2120-AA64

Airworthiness Directives; Eurocopter France Model EC 155B Helicopters

AGENCY: Federal Aviation Administration, DOT.

ACTION: Final rule; request for comments.

SUMMARY: This amendment adopts a new airworthiness directive (AD) for Eurocopter France (Eurocopter) Model EC 155B helicopters with certain SMD45H multi-functional displays. This action requires replacing the “AC” SMD45H multi-functional display interconnection board (interconnection board) of the affected displays with a “BC” interconnection board. This amendment is prompted by an incident of smoke in a cockpit caused by overheating of the interconnection board. The actions specified in this AD are intended to prevent an electrical discontinuity in the grounding plane inside the SMD45H multi-functional display, which can result in overheating of the interconnection board, smoke in the cockpit, and subsequent loss of control of the helicopter.

DATES: Effective October 9, 2002.

Comments for inclusion in the Rules Docket must be received on or before November 25, 2002.

ADDRESSES: Submit comments in triplicate to the Federal Aviation Administration (FAA), Office of the Regional Counsel, Southwest Region, Attention: Rules Docket No. 2002-SW-11-AD, 2601 Meacham Blvd., Room 663, Fort Worth, Texas 76137. You may also send comments electronically to the Rules Docket at the following address: 9-asw-adcomments@faa.gov.

FOR FURTHER INFORMATION CONTACT: Jorge Castillo, Aviation Safety Engineer, FAA, Rotorcraft Directorate, Rotorcraft Standards Staff, Fort Worth, Texas 76193-0110, telephone (817) 222-5127, fax (817) 222-5961.

SUPPLEMENTARY INFORMATION: The Direction Generale De L'Aviation Civile (DGAC), which is the airworthiness authority for France, notified the FAA that an unsafe condition may exist on Eurocopter Model EC 155B helicopters. The DGAC advises that a manufacturing anomaly on the “AC” interconnection board of certain display screens might cause discontinuity inside the grounding plane and result in overheating of the board and smoke in the cockpit. One case of smoke in the cockpit occurred at the manufacturer's facility.

Eurocopter has issued Alert Telex No. 04A004, dated November 22, 2001, which specifies replacement of SMD45H screens equipped with interconnection boards that might show some non-conformities with the manufacturing requirements. The DGAC classified this alert telex as mandatory and issued AD 2001-617-004(A), dated December 26, 2001, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

This unsafe condition is likely to exist or develop on other helicopters of the same type design registered in the United States. Therefore, this AD is being issued to prevent an electrical discontinuity inside the grounding plane, which can result in overheating of the interconnection board, smoke in the cockpit, and subsequent loss of control of the helicopter. This AD requires, within 30 days after the effective date of this AD, replacing the “AC” interconnection board of the affected displays with a “BC” interconnection board. The short compliance time involved is required because the previously described critical unsafe condition can adversely affect the controllability or structural integrity of the helicopter. Therefore, replacing the “AC” interconnection board of the affected displays with a “BC” interconnection board is required within 30 days, and this AD must be issued immediately.

Since a situation exists that requires the immediate adoption of this regulation, it is found that notice and opportunity for prior public comment hereon are impracticable, and that good cause exists for making this amendment effective in less than 30 days.

The FAA estimates that 2 helicopters will be affected by this AD, that it will take approximately 1 work hour to accomplish the interconnection board replacement, and that the average labor rate is $60 per work hour. Required parts cost approximately $200 per helicopter. Based on these figures, the total cost impact of the AD on U.S. operators is estimated to be $520.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption “ADDRESSES.” All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-11-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-19-06 Eurocopter France: Amendment 39-12886. Docket No. 2002-SW-11-AD.

Applicability: Model EC 155B helicopters, with SMD45H multi-functional displays, part numbers C19209VF11, C19209VG11, C19267EF10, C19267EG10, C19267VF11, or C19267VG11, having serial numbers from 201 through 284 inclusive, which are not followed by the letter “M”, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 30 days, unless accomplished previously.

To prevent an electrical discontinuity in the grounding plane inside the SMD45H multi-functional display, which can result in overheating of the interconnection board, smoke in the cockpit, and subsequent loss of control of the helicopter, accomplish the following:

(a) Replace the “AC” interconnection board of the affected SMD45H multi-functional display with a “BC” interconnection board.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits will not be issued.

(d) This amendment becomes effective on October 9, 2002.

Note 3: The subject of this AD is addressed in Direction Generale De L'Aviation Civile (France) AD No. 2001-617-004(A), dated December 26, 2001.

Issued in Fort Worth, Texas, on September 13, 2002.
Eric Bries,
Acting Manager, Rotorcraft Directorate, Aircraft Certification Service.

[FR Doc. 02-24181 Filed 9-23-02; 8:45 am]

BILLING CODE 4910-13-P